DEPARTMENT OF ENERGY

Federal Energy Regulatory Commission

Combined Notice of Filings No. 1

September 02, 2010.

Take notice that the Commission has received the following Natural Gas Pipeline Rate and Refund Report filings:

Docket Numbers: RP10-1181-000.

Applicants: Horizon Pipeline Company, L.L.C.

Description: Horizon Pipeline Company, L.L.C. submits tariff filing per 154.203: Order No. 587-U Compliance Filing to be effective 11/1/2010.

Filed Date: 09/01/2010.

Accession Number: 20100901-5069.

Comment Date: 5 p.m. Eastern Time on Monday, September 13, 2010.

Docket Numbers: RP10-1182-000.

Applicants: SG Resources Mississippi, L.L.C.

Description: SG Resources Mississippi, L.L.C. submits tariff filing per 154.203: SG Resources Mississippi, L.L.C.—Order No. 587-U Compliance Filing to be effective 11/1/2010.

Filed Date: 09/01/2010.

Accession Number: 20100901-5070.

Comment Date: 5 p.m. Eastern Time on Monday, September 13, 2010.

Docket Numbers: RP10-1183-000.

Applicants: Nautilus Pipeline Company, L.L.C.

Description: Nautilus Pipeline Company, L.L.C. submits tariff filing per 154.203: Order 587-U Compliance to be effective 11/1/2010.

Filed Date: 09/01/2010.

Accession Number: 20100901-5071.

Comment Date: 5 p.m. Eastern Time on Monday, September 13, 2010.

Docket Numbers: RP10-1184-000.

Applicants: Mississippi Canyon Gas Pipeline, L.L.C.

Description: Mississippi Canyon Gas Pipeline, L.L.C. submits tariff filing per 154.203: Order 587-U Compliance to be effective 11/1/2010.

Filed Date: 09/01/2010.

Accession Number: 20100901-5072.

Comment Date: 5 p.m. Eastern Time on Monday, September 13, 2010.

Docket Numbers: RP10-1185-000.

Applicants: Tennessee Gas Pipeline Company.

Description: Tennessee Gas Pipeline Company submits tariff filing per 154.203: NAESB V1.9 to be effective 11/1/2010.

Filed Date: 09/01/2010.

Accession Number: 20100901-5073.

Comment Date: 5 p.m. Eastern Time on Monday, September 13, 2010.

Docket Numbers: RP10-1186-000.

Applicants: Garden Banks Gas Pipeline, LLC.

Description: Garden Banks Gas Pipeline, LLC submits tariff filing per 154.203: Order 587-U Compliance to be effective 11/1/2010.

Filed Date: 09/01/2010.

Accession Number: 20100901-5074.

Comment Date: 5 p.m. Eastern Time on Monday, September 13, 2010.

Docket Numbers: RP10-1187-000.

Applicants: Tres Palacios Gas Storage LLC.

Description: Tres Palacios Gas Storage LLC submits tariff filing per 154.203: Tres Palacios Gas Storage LLC—Order No. 587-U Compliance Filing to be effective N/A.

Filed Date: 09/01/2010.

Accession Number: 20100901-5075.

Comment Date: 5 p.m. Eastern Time on Monday, September 13, 2010.

Docket Numbers: RP10-1188-000.

Applicants: Cheniere Creole Trail Pipeline, L.P.

Description: Cheniere Creole Trail Pipeline, L.P. submits tariff filing per 154.203: NAESB Compliance Filing to be effective 11/1/2010.

Filed Date: 09/01/2010.

Accession Number: 20100901-5076.

Comment Date: 5 p.m. Eastern Time on Monday, September 13, 2010.

Docket Numbers: RP10-1189-000.

Applicants: Northwest Pipeline GP.

Description: Northwest Pipeline GP submits tariff filing per 154.203: Northwest Pipeline GP—NAESB Version 1.9 Compliance Filing to be effective 11/1/2010.

Filed Date: 09/01/2010.

Accession Number: 20100901-5077.

Comment Date: 5 p.m. Eastern Time on Monday, September 13, 2010.

Docket Numbers: RP10-1190-000.

Applicants: Panhandle Eastern Pipe Line Company, LP.

Description: Panhandle Eastern Pipe Line Company, LP submits tariff filing per 154.203: NAESB Version 1.9 Compliance to be effective 11/1/2010.

Filed Date: 09/01/2010.

Accession Number: 20100901-5078.

Comment Date: 5 p.m. Eastern Time on Monday, September 13, 2010.

Docket Numbers: RP10-1191-000.

Applicants: MarkWest New Mexico, L.L.C.

Description: MarkWest New Mexico, L.L.C. submits tariff filing per 154.203: MarkWest New Mexico—NAESB Version 1.9 Filing to be effective 11/1/2010.

Filed Date: 09/01/2010

Accession Number: 20100901-5080.

Comment Date: 5 p.m. Eastern Time on Monday, September 13, 2010.

Docket Numbers: RP10-1192-000.

Applicants: Trunkline Gas Company, LLC.

Description: Trunkline Gas Company, LLC submits tariff filing per 154.203: NAESB Version 1.9 Compliance to be effective 11/1/2010.

Filed Date: 09/01/2010.

Accession Number: 20100901-5082.

Comment Date: 5 p.m. Eastern Time on Monday, September 13, 2010.

Docket Numbers: RP10-1193-000.

Applicants: MarkWest Pioneer, L.L.C.

Description: MarkWest Pioneer, L.L.C. submits tariff filing per 154.203: MarkWest Pioneer—NAESB Version 1.9 Filing to be effective 11/1/2010.

Filed Date: 09/01/2010.

Accession Number: 20100901-5085.

Comment Date: 5 p.m. Eastern Time on Monday, September 13, 2010.

Docket Numbers: RP10-1194-000.

Applicants: Colorado Interstate Gas Company.

Description: Penalties Assessed Informational for the 12 month period ending June 30, 2010 of Colorado Interstate Gas Company.

Filed Date: 08/31/2010.

Accession Number: 20100831-5249.

Comment Date: 5 p.m. Eastern Time on Monday, September 13, 2010.

Docket Numbers: RP10-1195-000.

Applicants: El Paso Natural Gas Company.

Description: El Paso Natural Gas Company submits tariff filing per 154.203: Order No. 587-U Compliance to be effective 11/1/2010.

Filed Date: 09/01/2010.

Accession Number: 20100901-5086.

Comment Date: 5 p.m. Eastern Time on Monday, September 13, 2010.

Docket Numbers: RP10-1196-000.

Applicants: Florida Gas Transmission Company, LLC.

Description: Florida Gas Transmission Company, LLC submits tariff filing per 154.203: NAESB Version 1.9 Compliance to be effective 11/1/2010.

Filed Date: 09/01/2010.

Accession Number: 20100901-5087.

Comment Date: 5 p.m. Eastern Time on Monday, September 13, 2010.

Docket Numbers: RP10-1197-000.

Applicants: Mojave Pipeline Company.

Description: Mojave Pipeline Company submits tariff filing per 154.203: Order No. 587-U Compliance to be effective 11/1/2010.

Filed Date: 09/01/2010.

Accession Number: 20100901-5088.

Comment Date: 5 p.m. Eastern Time on Monday, September 13, 2010.

Docket Numbers: RP10-1198-000.

Applicants: Cheyenne Plains Gas Pipeline Company, L.L.L.

Description: Cheyenne Plains Gas Pipeline Company, L.L.C. submits tariff filing per 154.203: Order 587-U Compliance Filing to be effective 11/1/2010.

Filed Date: 09/01/2010.

Accession Number: 20100901-5092.

Comment Date: 5 p.m. Eastern Time on Monday, September 13, 2010.

Docket Numbers: RP10-1199-000.

Applicants: Trunkline LNG Company, LLC.

Description: Trunkline LNG Company, LLC submits tariff filing per 154.203: NAESB Version 1.9 Compliance to be effective 11/1/2010.

Filed Date: 09/01/2010.

Accession Number: 20100901-5097.

Comment Date: 5 p.m. Eastern Time on Monday, September 13, 2010.

Docket Numbers: RP10-1200-000.

Applicants: Wyoming Interstate Company, L.L.C.

Description: Wyoming Interstate Company, L.L.C. submits tariff filing per 154.203: Order No. 587-U Compliance Filing to be effective 11/1/2010.

Filed Date: 09/01/2010.

Accession Number: 20100901-5101.

Comment Date: 5 p.m. Eastern Time on Monday, September 13, 2010.

Docket Numbers: RP10-1201-000.

Applicants: MarkWest Pioneer, L.L.C.

Description: MarkWest Pioneer, L.L.C. submits tariff filing per 154.403(d)(2): MarkWest Pioneer—Quarterly FRP Filing (September 1, 2010) to be effective 10/1/2010.

Filed Date: 09/01/2010.

Accession Number: 20100901-5107.

Comment Date: 5 p.m. Eastern Time on Monday, September 13, 2010.

Docket Numbers: RP10-1202-000.

Applicants: Southwest Gas Storage Company.

Description: Southwest Gas Storage Company submits tariff filing per 154.203: NAESB Version 1.9 Compliance to be effective 11/1/2010.

Filed Date: 09/01/2010.

Accession Number: 20100901-5108.

Comment Date: 5 p.m. Eastern Time on Monday, September 13, 2010.

Docket Numbers: RP10-1203-000.

Applicants: Colorado Interstate Gas Company.

Description: Colorado Interstate Gas Company submits tariff filing per 154.203: Order No. 587-U Compliance to be effective 11/1/2010.

Filed Date: 09/01/2010.

Accession Number: 20100901-5111.

Comment Date: 5 p.m. Eastern Time on Monday, September 13, 2010.

Docket Numbers: RP10-1204-000.

Applicants: Sea Robin Pipeline Company, LLC.

Description: Sea Robin Pipeline Company, LLC submits tariff filing per 154.203: NAESB Version 1.9 Compliance to be effective 11/1/2010.

Filed Date: 09/01/2010.

Accession Number: 20100901-5116.

Comment Date: 5 p.m. Eastern Time on Monday, September 13, 2010.

Docket Numbers: RP10-1205-000.

Applicants: Young Gas Storage Company, Ltd.

Description: Young Gas Storage Company, Ltd. submits tariff filing per 154.203: Order No. 587-U Compliance to be effective 11/1/2010.

Filed Date: 09/01/2010.

Accession Number: 20100901-5117.

Comment Date: 5 p.m. Eastern Time on Monday, September 13, 2010.

Docket Numbers: RP10-1206-000.

Applicants: Kinder Morgan Illinois Pipeline, LLC.

Description: Kinder Morgan Illinois Pipeline, LLC submits tariff filing per 154.203: Order No. 587-U Compliance Filing to be effective 11/1/2010.

Filed Date: 09/01/2010.

Accession Number: 20100901-5119.

Comment Date: 5 p.m. Eastern Time on Monday, September 13, 2010.

Docket Numbers: RP10-1207-000.

Applicants: Gulf Crossing Pipeline Company, LLC.

Description: Gulf Crossing Pipeline Company, LLC submits tariff filing per 154.204: NAESB 1.9 to be effective 11/1/2010.

Filed Date: 09/01/2010.

Accession Number: 20100901-5122.

Comment Date: 5 p.m. Eastern Time on Monday, September 13, 2010.

Docket Numbers: RP10-1208-000.

Applicants: Gulf South Pipeline Company, LP.

Description: Gulf South Pipeline Company, LP submits tariff filing per 154.204: ETC to Texla to be effective 9/1/2010.

Filed Date: 09/01/2010.

Accession Number: 20100901-5124.

Comment Date: 5 p.m. Eastern Time on Monday, September 13, 2010.

Docket Numbers: RP10-1209-000.

Applicants: Trailblazer Pipeline Company, LLC.

Description: Trailblazer Pipeline Company, LLC submits First Revised Sheet No. 174 et al. to FERC Gas Tariff, Fifth Revised Volume No. 1 pursuant to Order No. 587-U Compliance Filing, to be effective 11/1/2010.

Filed Date: 09/01/2010.

Accession Number: 20100901-5133.

Comment Date: 5 p.m. Eastern Time on Monday, September 13, 2010.

Docket Numbers: RP10-1210-000.

Applicants: Dominion South Pipeline Company, LP.

Description: Dominion South Pipeline Company, LP submits tariff filing per 154.203: DSP-NAESB Compliance to be effective 11/1/2010.

Filed Date: 09/01/2010.

Accession Number: 20100901-5134.

Comment Date: 5 p.m. Eastern Time on Monday, September 13, 2010.

Docket Numbers: RP10-1211-000.

Applicants: Dominion Cove Point LNG, LP.

Description: Dominion Cove Point LNG, LP submits tariff filing per 154.203: DCP-NAESB Compliance to be effective 11/1/2010.

Filed Date: 09/01/2010.

Accession Number: 20100901-5135.

Comment Date: 5 p.m. Eastern Time on Monday, September 13, 2010.

Docket Numbers: RP10-1212-000.

Applicants: Dominion Transmission, Inc.

Description: Dominion Transmission, Inc. submits tariff filing per 154.203: DTI-NAESB Compliance to be effective 11/1/2010.

Filed Date: 09/01/2010.

Accession Number: 20100901-5136.

Comment Date: 5 p.m. Eastern Time on Monday, September 13, 2010.

Docket Numbers: RP10-1213-000.

Applicants: Gulf South Pipeline Company, LP.

Description: Gulf South Pipeline Company, LP submits tariff filing per 154.204: Enerquest to Trans Louisiana to be effective 9/1/2010.

Filed Date: 09/01/2010.

Accession Number: 20100901-5137.

Comment Date: 5 p.m. Eastern Time on Monday, September 13, 2010.

Docket Numbers: RP10-1214-000.

Applicants: Transwestern Pipeline Company, LLC.

Description: Transwestern Pipeline Company, LLC submits tariff filing per 154.203: NAESB 1.9 to be effective 11/1/2010.

Filed Date: 09/01/2010.

Accession Number: 20100901-5141.

Comment Date: 5 p.m. Eastern Time on Monday, September 13, 2010.

Docket Numbers: RP10-1215-000.

Applicants: Black Marlin Pipeline Company.

Description: Black Marlin Pipeline Company submits tariff filing per 154.203: NAESB v1.9 to be effective 9/1/2010.

Filed Date: 09/01/2010.

Accession Number: 20100901-5142.

Comment Date: 5 p.m. Eastern Time on Monday, September 13, 2010.

Docket Numbers: RP10-1216-000.

Applicants: Hardy Storage Company, LLC.

Description: Hardy Storage Company, LLC submits tariff filing per 154.203: NAESB V 1.9 to be effective 9/17/2010.

Filed Date: 09/01/2010.

Accession Number: 20100901-5143.

Comment Date: 5 p.m. Eastern Time on Monday, September 13, 2010.

Docket Numbers: RP10-1217-000.

Applicants: Bluewater Gas Storage, LLC.

Description: Bluewater Gas Storage, LLC submits tariff filing per 154.203: Bluewater Gas Storage, LLC—Order No. 587-U Compliance Filing to be effective 11/1/2010.

Filed Date: 09/01/2010.

Accession Number: 20100901-5145.

Comment Date: 5 p.m. Eastern Time on Monday, September 13, 2010.

Docket Numbers: RP10-1218-000.

Applicants: Rendezvous Pipeline Company, LLC.

Description: Rendezvous Pipeline Company, LLC submits tariff filing per 154.203: NAESB Version 1.9 Filing to be effective 11/1/2010.

Filed Date: 09/01/2010.

Accession Number: 20100901-5146.

Comment Date: 5 p.m. Eastern Time on Monday, September 13, 2010.

Docket Numbers: RP10-1219-000.

Applicants: Petal Gas Storage, L.L.C.

Description: Petal Gas Storage, LLC submits Eighth Revised Sheet 7 et al. of its FERC Gas Tariff, Original Volume 1 to be effective 11/1/10.

Filed Date: 09/01/2010.

Accession Number: 20100901-0216.

Comment Date: 5 p.m. Eastern Time on Monday, September 13, 2010.

Docket Numbers: RP10-1220-000.

Applicants: Texas Gas Transmission, LLC.

Description: Texas Gas Transmission, LLC submits Third Revised Sheet 1300 et al. to FERC Gas Tariff, Third Revised Volume 1 to be effective 11/1/10.

Filed Date: 09/01/2010.

Accession Number: 20100901-0217.

Comment Date: 5 p.m. Eastern Time on Monday, September 13, 2010.

Docket Numbers: RP10-1221-000.

Applicants: CenterPoint Energy Gas Transmission Company.

Description: CenterPoint Energy Gas Transmission Company submits tariff filing per 154.203: NAESB Compliance Filing (Version 1.9) to be effective 11/1/2010.

Filed Date: 09/01/2010.

Accession Number: 20100901-5148.

Comment Date: 5 p.m. Eastern Time on Monday, September 13, 2010.

Docket Numbers: RP10-1222-000.

Applicants: Honeoye Storage Corporation.

Description: Honeoye Storage Corporation submits Fourth Revised Sheet 15 et al. to FERC Gas Tariff, Original Volume 1 to be effective 11/1/10.

Filed Date: 09/01/2010.

Accession Number: 20100901-0218.

Comment Date: 5 p.m. Eastern Time on Monday, September 13, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-22422 Filed 9-8-10; 8:45 am]

BILLING CODE 6717-01-P